COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes service(s) from the Procurement List that were furnished by nonprofit agencies employing persons who are blind or have other severe disabilities.

DATES: Date deleted from the Procurement List: October 6, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION:

Deletions

On 8/2/2024 (89 FR 63168), the Committee for Purchase From People Who Are Blind or Severely Disabled published notice of proposed deletions from the Procurement List. This notice is published pursuant to 41 U.S.C. 8503(a)(2) and 41 CFR 51-2.3.

After consideration of the relevant matter presented, the Committee has determined that the service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the service(s) to the Government.

3. There are no known regulatory alternatives which would accomplish the objectives of the Javits-Wagner-O'Day Act (41 U.S.C. 8501-8506) in connection with the service(s) deleted from the Procurement List.

End of Certification

Accordingly, the following product(s) and service(s) are deleted from the Procurement List:

Service(s)

Service Type: Develop Rapid Prototypes

Mandatory for: U.S. COAST GUARD

Designated Source of Supply: National Industries for the Blind, Alexandria, VA

Designated Source of Supply: The Arkansas Lighthouse for the Blind, Little Rock, AR

Designated Source of Supply: Blind Industries & Services of Maryland, Baltimore, MD

Designated Source of Supply: Alphapointe, Kansas City, MO

Designated Source of Supply: Lions Services, Inc., Charlotte, NC

Designated Source of Supply: LC Industries, Inc., Durham, NC

Designated Source of Supply: Industries of the Blind, Inc., Greensboro, NC

Designated Source of Supply: Winston-Salem Industries for the Blind, Inc., Winston-Salem, NC

Designated Source of Supply: Northeastern Association of the Blind at Albany, Inc., Albany, NY

Designated Source of Supply: Goodwill Vision Enterprises, Rochester, NY

Designated Source of Supply: San Antonio Lighthouse for the Blind, San Antonio, TX

Designated Source of Supply: (Seattle Lighthouse), Seattle, WA

Contracting Activity: U.S. COAST GUARD, HQ CONTRACT OPERATIONS (CG-912)

Service Type: Telephone Switchboard Operations

Mandatory for: Department of Veterans Affairs, VA Medical Center, Washington, DC, 50 Irving Street NW, Washington, DC

Mandatory Source of Supply: Columbia Lighthouse for the Blind, Washington, DC

Contracting Activity: VETERANS AFFAIRS, DEPARTMENT OF, 688-WASHINGTON DC (00688)

Michael R. Jurkowski,
Director, Business Operations.

[FR Doc. 2024-20101 Filed 9-5-24; 8:45 am]

BILLING CODE 6353-01-P